DEPARTMENT OF ENERGY

Request for Information—Foundation for Energy Security and Innovation (FESI)

AGENCY: Office of Technology Transitions, Department of Energy.

ACTION: Request for information (RFI); reopening of public comment period.

SUMMARY: On February 15, 2023, the U.S. Department of Energy (DOE) published a request for information to seek input on how DOE stakeholders may engage with the Foundation for Energy Security and Innovation (FESI) directly, and how DOE may engage with the FESI and communities it will serve. Comments were due by March 27, 2023. In response to public request, DOE is re-opening the comment period for 14 days to allow interested parties additional time to provide input.

DATES: The comment period for the request for information, published on February 15, 2023 (88 FR 9876), which closed on March 27, 2023, is hereby reopened. Responses should be submitted by April 18, 2023.

ADDRESSES: Interested parties are to submit comments electronically to FESI.RFI@hq.doe.gov with the subject line “FESI RFI Response” no later than April 18, 2023. All responses must be submitted as a Microsoft Word document (.doc/.docx) of no more than 5 pages in length, with black, Times New Roman, 12 point font, and 1 inch margins as an attachment to an email. The document cannot exceed 2MB in size. Only electronic responses to the above email address will be accepted. DOE will not consider responses submitted by any other means.

Note: If clicking on the above link gives you an error message, you must CUT AND PASTE the URL into your browser to reach the web page.

FOR FURTHER INFORMATION CONTACT: Mary Yamada, (202) 586-2000, FESI.RFI@hq.doe.gov.

SUPPLEMENTARY INFORMATION: DOE published a Request for Information (RFI) on February 15, 2023, seeking input from the public on how DOE stakeholders may engage with the Foundation for Energy Security and Innovation (FESI) directly, and how DOE may engage with the FESI and communities it will serve (88 FR 9876). In response to public request, DOE is re-opening the comment period and will consider any comments received by April 18, 2023. In the Request for Information, DOE sought information from potential stakeholder groups including, but not limited to:

• Philanthropic and non-profit organizations.

• Community stakeholders.

• DOE's National Laboratory foundations.

• Potential investors in companies developing technologies aligned with the DOE mission.

• Industry stakeholders, especially those representing diverse regions, sectors, and communities.

• Other potential stakeholders or collaborators of FESI.

Questions seeking input on potential objectives and activities for DOE engagement with the FESI:

1. Which aspects of the DOE mission ¹ and energy technology commercialization can you identify as potentially benefitting from FESI's involvement?

¹ DOE's mission statement can be found at the following link: https://www.energy.gov/mission.

2. Once the FESI is established, what mission areas would you recommend DOE prioritize working on with the FESI?

3. In what ways would you recommend DOE seek support of the FESI to carry out the mission areas identified?

4. To assist DOE in understanding and potentially better aligning with stakeholder interest, in what ways would you recommend DOE engage with organizations to determine what they seek to accomplish?

5. How would you envision DOE engage with the FESI to:

a. Better support communities wishing to participate in the energy transition?

b. Better support industry and small businesses wishing to participate in the energy transition?

c. Drive long-term climate and clean energy strategy?

d. Broaden participation in energy technology development among individuals from historically underrepresented groups or regions?

e. Support the commercialization of energy technologies?

f. Support workforce development?

g. Foster collaboration and partnerships with researchers from the Federal Government, State governments, institutions of higher education, including historically Black colleges or universities, Tribal Colleges or Universities, and minority-serving institutions, federally funded research and development centers (FFRDCs), industry, and nonprofit organizations for the research, development, demonstration and deployment of transformative energy and associated technologies?

6. What potential challenges should DOE be aware of to proactively manage given the intent to establish the FESI?

7. What other ways could the establishment of FESI support the DOE missions? How could DOE engage effectively with the FESI on these activities?

Confidential Business Information. Pursuant to 10 CFR 1004.11, any person submitting information that he or she believes to be confidential and exempt by law from public disclosure should submit via email two well-marked copies: one copy of the document marked “confidential” including all the information believed to be confidential, and one copy of the document marked “non-confidential” with the information believed to be confidential deleted. Submit these documents via email. DOE will make its own determination about the confidential status of the information and treat it according to its determination.

Signing Authority

This document of the Department of Energy was signed on March 29, 2023, by Dr. Vanessa Chan, Chief Commercialization Officer and Director of the Office of Technology Transitions, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 29, 2023.
Treena V. Garrett,
Federal Register Liaison Officer, U.S. Department of Energy.

[FR Doc. 2023-06880 Filed 4-3-23; 8:45 am]

BILLING CODE 6450-01-P